DEPARTMENT OF VETERANS AFFAIRS

Advisory Committee on Homeless Veterans, Notice of Meeting

The Department of Veterans Affairs (VA) gives notice under the Federal Advisory Committee Act, 5 U.S.C. ch. 10, that the Advisory Committee on Homeless Veterans will meet on September 19-20, 2023. The meeting sessions will be a hybrid, held in-person at the Department of Veterans Affairs 810 Vermont Avenue NW, Sonny Montgomery Conference Room 230, Washington, DC 20420; and virtually via Zoom conferencing platform. The meeting sessions will begin and end as follows:

Date | Time | Open session
September 19, 2023 | 9:00 a.m.-4:30 p.m. Eastern Standard Time (EST) | Yes.
September 20, 2023 | 9:00 a.m.-12:00 p.m. EST | Yes.

The meetings are open to the public.

The purpose of the Committee is to provide the Secretary of Veterans Affairs with an ongoing assessment of the effectiveness of the policies, organizational structures, and services of VA in assisting Veterans at risk of and experiencing homelessness. The Committee shall assemble and review information related to the needs of homeless Veterans and provide advice on the most appropriate means of assisting this Veteran population.

On September 19-20, 2023, the agenda will include briefings from officials at VA and other Federal, state and local agencies regarding services for homeless Veterans on September 19, 2023 and a vote on recommendations to Secretary of Veterans Affairs on September 20, 2023.

Time will be allocated at the September 19, 2023 meeting for receiving oral presentations from the public. By September 14, 2023, interested parties that would like to provide oral presentations should provide written comments on issues affecting homeless Veterans to achv@va.gov for review by the Committee to Anthony Love, Designated Federal Officer, Veterans Health Administration Homeless Programs Office (11HPO), U.S. Department of Veterans Affairs, 810 Vermont Avenue NW (11HPO), Washington, DC 20420.

Additionally, members of the public who wish to attend the September 19-20, 2023 meeting virtually, please notify Mr. Love at achv@va.gov no later than September 14, 2023, providing their name, professional affiliation, email address, and phone number. Attendees who require reasonable accommodations should also state so in their requests. Because the meeting is being held in a government building, a photo I.D. must be presented at the Guard's Desk as a part of the screening process. Due to an increase in security protocols, you should allow an additional 30 minutes before the meeting begins. An escort will be provided until 9:00 a.m. EST each day. The meeting link and call-in numbers are noted below:

September 19, 2023 Meeting (9:00 a.m.-4:30 p.m. EST)

Zoom: https://us06web.zoom.us/j/86738584308.

Mobile:

+13017158592,,86738584308# US (Washington DC)

+13126266799,,86738584308# US (Chicago)

For higher quality, dial a number based on your location below (Webinar ID: 867 3858 4308)

+1 301 715 8592 US (Washington DC)

+1 312 626 6799 US (Chicago)

+1 646 558 8656 US (New York)

+1 646 931 3860 US

+1 305 224 1968 US

+1 309 205 3325 US

+1 719 359 4580 US

+1 720 707 2699 US (Denver)

+1 253 205 0468 US

+1 253 215 8782 US (Tacoma)

+1 346 248 7799 US (Houston)

+1 360 209 5623 US

+1 386 347 5053 US

+1 507 473 4847 US

+1 564 217 2000 US

+1 669 444 9171 US

+1 689 278 1000 US

International numbers available: https://us06web.zoom.us/u/kbZgmrdcfP.

September 20, 2023 Meeting (9:00 a.m.-12:00 p.m. EST)

Zoom: https://us06web.zoom.us/j/82787761128.

Mobile:

+13017158592,,82787761128# US (Washington DC)

+13126266799,,82787761128# US (Chicago)

For higher quality, dial a number based on your location below (Webinar ID: 827 8776 1128)

+1 301 715 8592 US (Washington DC)

+1 312 626 6799 US (Chicago)

+1 646 558 8656 US (New York)

+1 646 931 3860 US

+1 305 224 1968 US

+1 309 205 3325 US

+1 507 473 4847 US

+1 564 217 2000 US

+1 669 444 9171 US

+1 689 278 1000 US

+1 719 359 4580 US

+1 720 707 2699 US (Denver)

+1 253 205 0468 US

+1 253 215 8782 US (Tacoma)

+1 346 248 7799 US (Houston)

+1 360 209 5623 US

+1 386 347 5053 US

International numbers available: https://us06web.zoom.us/u/kdg63Ixv8I.

Dated: June 29, 2023.
LaTonya L. Small,
Federal Advisory Committee Management Officer.

[FR Doc. 2023-14183 Filed 7-3-23; 8:45 am]

BILLING CODE P